DEPARTMENT OF THE INTERIOR

Bureau of Land Management

[ID-933-1430-AG; IDI-14515 C]

Termination of Desert Land Entry Classification, Idaho

AGENCY: Bureau of Land Management, Interior.

ACTION: Notice.

SUMMARY: This notice terminates a non-suitable Desert Land Entry Classification on 10 acres, so the land can be patented under Section 206 of the Federal Land Policy and Management Act of 1976.

EFFECTIVE DATE: June 15, 2000.

FOR FURTHER INFORMATION CONTACT: Catherine D. Foster, BLM Idaho State Office, 1387 S. Vinnell Way, Boise, Idaho 83709, 208-373-3863.

SUPPLEMENTARY INFORMATION: On October 1, 1981, 10 acres were classified as non-suitable for Desert Land Entry. The classification is hereby terminated and the segregation for the following described lands is hereby terminated:

T. 17 N., R. 23 E., B.M.

Section 12: S½S½NW¼SE¼.

The area described above aggregates 10 acres in Lemhi County.

At 9 a.m. on June 15, 2000, the Desert Land Entry classification identified above will be terminated. The lands will remain closed to location and entry under the public land laws and the general land laws, as the lands are currently segregated for exchange.

Dated: June 9, 2000.
Jimmie Buxton,
Branch Chief, Lands and Minerals.

[FR Doc. 00-15133 Filed 6-14-00; 8:45 am]

BILLING CODE 4310-GG-P